DEPARTMENT OF THE INTERIOR

National Park Service

[NPS-WASO-NAGPRA-NPS0037094; PPWOCRADN0-PCU00RP14.R50000]

Notice of Inventory Completion: American Museum of Natural History, New York, NY

AGENCY: National Park Service, Interior.

ACTION: Notice.

SUMMARY: In accordance with the Native American Graves Protection and Repatriation Act (NAGPRA), the American Museum of Natural History (AMNH) has completed an inventory of human remains and associated funerary objects and has determined that there is a cultural affiliation between the human remains and associated funerary objects and Indian Tribes or Native Hawaiian organizations in this notice. The human remains and associated funerary objects were removed from Nassau and Queens Counties, NY.

DATES: Repatriation of the human remains and associated funerary objects in this notice may occur on or after January 18, 2024.

ADDRESSES: Nell Murphy, American Museum of Natural History, Central Park West at 79th Street, New York, NY 10024, telephone (212) 769-5837, email nmurphy@amnh.org.

SUPPLEMENTARY INFORMATION: This notice is published as part of the National Park Service's administrative responsibilities under NAGPRA. The determinations in this notice are the sole responsibility of AMNH. The National Park Service is not responsible for the determinations in this notice. Additional information on the determinations in this notice, including the results of consultation, can be found in the inventory or related records held by AMNH.

Description

In 1947, human remains representing, at minimum, two individuals were collected from Douglaston, 338 Bayview Avenue, Hanan Site, Queens County, NY, by Carlyle Smith. The human remains were accessioned that same year as a gift from Mrs. L.F. Hanan. The human remains appear to date to the Late Woodland Period (A.D.1100-contact). No associated funerary objects are present.

In an unknown year, human remains representing, at minimum, one individual were removed from Douglaston, Douglas Manor, NW Corner of Hillside Ave and Centre? Drive, Queens County, NY. The human remains were accessioned in 1924 as a gift from Mr. Lewis Walker. No associated funerary objects are present.

In November 1923, human remains representing, at minimum, four individuals were removed either by Dr. Thomas H. Evans or Nels Nelson from Malba, Corner of Parsons Boulevard and Tenth Avenue, Roe-Powell Place, Old Burial Grounds, Queens County, NY. These human remains were loaned to AMNH by Queens Borough President Maurice E. Connolly and then accessioned in 1927. These human remains appear to date to the Early Historic Period. No associated funerary objects are present.

In what is likely to be 1935, human remains representing, at minimum, one individual were removed from Seaford Vicinity, Fort Neck, Nassau County, NY, by Mr. William Claude. The Museum accessioned these human remains in 1935 as a gift. No associated funerary objects are present.

In an unknown year, human remains, representing, at minimum, one individual were removed from Glen Cove, Nassau County, NY. The Museum accessioned these human remains in 1915 as a gift from Mr. James G. Price. The human remains are likely Late Woodland or Early Contact period in age. No associated funerary objects are present.

In 1901, human remains, representing, at minimum, five individuals were removed from Dosoris, Glen Cove Vicinity, Nassau County, NY, by Mark Harrington as part of an expedition. The human remains were accessioned that same year. The human remains are likely Late Woodland or Early Contact period in age. No associated funerary objects are present.

In 1899, human remains, representing, at minimum, 35 individuals were removed from Port Washington, Goodwin Sandworks Property, Nassau County, NY, by Mark Harrington as part of an expedition. The Museum accessioned these human remains in 1900. The 49 associated funerary objects include four dog skeletons; one lot of nut shells; one stone implement; two broken awls; one lot of sherds and fragment of decorated pot; one lot of awls, turtle shell vessel and pipe stem; one lot of net sinkers and concretion chips; one small notched bone needle; one lot animal and bird bones with charcoal; three lots of shells; one lot of animal bones, teeth, shells, stone and sherds; one lot of potsherds with hickory nut shell; one lot of potsherds, animal and fish bones and chip; one lot of net sinkers with bone needle; one lot of lithic debitage, shells, firestone and net sinker; one lot of bone awls and a broken antler handle; one lot of chips, shells with stone pestle; three lots of pot sherds; two jasper chips; three hammerstones; one chert arrowpoint; one lot of shell beads; three lots of faunal material; nine lots of mixed potsherds and faunal material; and four lots of mixed sherds and stone tools.

In 1899, human remains, representing, at minimum, three individuals were removed from Port Washington, West End of Goodwin Sandworks Property, “Burial Hill,” Nassau County, NY, by Mark Harrington as part of an expedition. The Museum accessioned these human remains in 1900. The one associated funerary object is a wolf jaw.

In 1899, human remains, representing, at minimum, five individuals were removed from ½ mile north of Port Washington, Near Creek, Village, Nassau County, NY, by Mark Harrington. The Museum accessioned these human remains in 1899 as a gift from Harrington. The five associated funerary objects include one pot sherd, one lot of decorated pot shreds, one large cord marked pot fragment, one lot of small cord marked fragments, and one lot of turtle shell pieces.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, kinship, linguistics.

Determinations

Pursuant to NAGPRA and its implementing regulations, and after consultation with the appropriate Indian Tribes and Native Hawaiian organizations, AMNH has determined that:

• The human remains described in this notice represent the physical remains of 57 individuals of Native American ancestry.

• The 55 objects described in this notice are reasonably believed to have been placed with or near individual human remains at the time of death or later as part of the death rite or ceremony.

• There is a relationship of shared group identity that can be reasonably traced between the human remains and associated funerary objects described in this notice and the Delaware Nation, Oklahoma; Delaware Tribe of Indians; Shinnecock Indian Nation; and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, AMNH must determine the most appropriate requestor prior to repatriation. Requests for joint repatriation of the human remains and associated funerary objects are considered a single request and not competing requests. AMNH is responsible for sending a copy of this notice to the Indian Tribes and Native Hawaiian organizations identified in this notice.

Authority: Native American Graves Protection and Repatriation Act, 25 U.S.C. 3003, and the implementing regulations, 43 CFR 10.9, § 10.10, and § 10.14.

Dated: December 8, 2023.
Melanie O'Brien,
Manager, National NAGPRA Program.

[FR Doc. 2023-27800 Filed 12-18-23; 8:45 am]

BILLING CODE 4312-52-P